DEPARTMENT OF HEALTH AND HUMAN SERVICES

Centers for Disease Control and Prevention

[60-Day-12-0834]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kimberly S. Lane, at 1600 Clifton Road, MS D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Occupational Injuries and Illnesses among Emergency Medical Services (EMS) Workers: A NEISS-Work Telephone Interview Survey—Revision—National Institute for Occupational Safety and Health (NIOSH), Centers for Disease Control and Prevention (CDC).

Background and Brief Description

Studies have reported that EMS workers have higher rates of non-fatal injuries and illnesses as compared to the general worker population. As EMS professionals are tasked with protecting the health of the public and treating urgent medical needs, it follows that understanding and preventing injuries and illnesses among EMS workers will have a benefit reaching beyond the workers to the general public.

As mandated in the Occupational Safety and Health Act of 1970 (Pub. L. 91-596), the mission of NIOSH is to conduct research and investigations on occupational safety and health. Related to this mission, the purpose of this project is to conduct research that will provide a detailed description of non-fatal occupational injuries and illnesses incurred by EMS workers. This project bridges a gap of limited existing EMS worker injury and illness surveillance identified in a 2007 National Highway Traffic Safety Administration (NHTSA) report. The project uses two related data sources. The first source is data abstracted from medical records of EMS workers treated in a nationally stratified sample of emergency departments. These data are routinely collected by the occupational supplement to the National Electronic Injury Surveillance System (NEISS-Work). The second data source, for which NIOSH is seeking OMB approval for a two year extension, is responses to telephone interview surveys of the injured and ill EMS workers identified within NEISS-Work. Collection of telephone interview data began in July 2010.

Data collected under the original OMB approval for this project indicate that EMS workers are willing to respond to detailed questions about their occupational injury and related circumstances. However, in order to obtain enough data to produce stable, detailed national estimates, data collection should continue until July 1, 2014. This will provide a total of four years of data for analysis.

The ongoing telephone interview surveys will supplement NEISS-Work data with an extensive description of EMS worker injuries and illnesses, including worker characteristics, injury types, injury circumstances, injury outcomes, and use of personal protective equipment. Previous reports describing occupational injuries and illnesses to EMS workers provide limited details on specific regions or sub-segments of the population and many are outdated. As compared to these earlier studies, the scope of the telephone interview data is broader as it includes sampled cases nationwide and has no limitations in regards to type of employment (i.e., volunteer versus career). Results from the telephone interviews will be weighted and reported as estimates of EMS workers treated for occupational injuries and illnesses in emergency departments.

The sample size for the telephone interview survey is estimated to be approximately 150 EMS workers annually for the proposed four year duration of the study. This estimate is based on preliminary analysis of the data collected to-date. The estimate has been reduced from the original sample projection of 175 EMS workers. Consequently, the burden has been reduced as well. Each telephone interview takes approximately 20 minutes to complete, resulting in an annualized burden estimate of 50 hours. Using the routine NEISS-Work data, an analysis of all identified EMS workers will be performed to determine if there are any differences between the telephone interview responder and non-responder groups.

This project is a collaborative effort between the Division of Safety Research in the NIOSH and the Office of Emergency Medical Services in NHTSA. Both agencies have a strong interest in improving surveillance of EMS worker injuries and illnesses to provide the information necessary for effectively targeting and implementing prevention efforts and, consequently, reducing occupational injuries and illnesses among EMS workers. The Consumer Product Safety Commission (CPSC) will also contribute to this project as they are responsible for coordinating the collection of all NEISS-Work data and for overseeing the collection of all telephone interview data.

There is no cost to respondents other than their time.

Estimated Annualized Burden Hours
Respondents | Number of respondents | Number of responses per respondent | Average burden per response (in hours) | Total burden (in hours)
EMS workers | 150 | 1 | 20/60 | 50
Total |  |  |  | 50

Kimberly S. Lane,
Deputy Director, Office of Science Integrity, Office of the Associate Director for Science, Office of the Director, Centers for Disease Control and Prevention.

[FR Doc. 2012-12287 Filed 5-18-12; 8:45 am]

BILLING CODE 4163-18-P